DEPARTMENT OF AGRICULTURE

Forest Service

Ashley National Forest, Utah; Ashley-Dry Fork Grazing Allotments

AGENCY: Forest Service, USDA.

ACTION: Notice of intent to prepare an environmental impact statement; removal.

SUMMARY: The Environmental Protection Agency published in the Federal Register of February 3, 2004, a notice of intent to prepare an EIS for the Ashley-Dry Fork Grazing Allotments. This document removes that notice of intent.

DATES: Effective on July 1, 2005.

FOR FURTHER INFORMATION CONTACT: Dustin Bambrough, Interdisciplinary Team Leader, Ashley National Forest, 355 N. Vernal Avenue, Vernal, UT 84078-789-1181.

SUPPLEMENTARY INFORMATION: The Environmental Protection Agency published in the Federal Register of February 3, 2004 (DOCID:FR03fe04-42), a notice of intent to prepare an EIS for the Ashley-Dry Fork Grazing Allotments to analyze a proposal to continue cattle grazing on the Black Canyon, Lake Mountain and Dry Fork Allotments located on the Vernal Ranger District, in Uintah County. This document removes that notice of intent. The Forest Service is not going to publish an environmental impact statement.

The Black Canyon Allotment includes 37,449 acres of National Forest System land. The original boundaries were established in the early 1970s by combining the former Cow Canyon Sheep and Dry Fork Cattle Allotments. Some additional acres were also added in Ashley Gorge and from the area known as the Sheep's Trail Allotment. An additional 1,280 acres were added in 2000 from the Lakeshore Basin Allotment.

The Lake Mountain Allotment includes 7,971 acres of National Forest System Land. The original boundaries were carved out of the Mosby Mountain Allotment in 1954. In 1977, the Lake Mountain Allotment was formed by combining the Lake Mountain-Flat Spring Allotment with parts of the former Mosby Canyon and Dry Fork Canyon Allotments. The Dry Fork Allotment includes 17,918 acres of National Forest Service land. The allotment was established in 1977-78. The allotment was formed from all or parts of the Mosby Mountain, Mill Canyon, Dry Fork Sheep and Goat Allotments. With the above allotments the number of cattle can be adjusted depending on variations in precipitation, plant readiness, and range condition.

Dated: June 24, 2005.
Scott Steinberg,
District Ranger.

[FR Doc. 05-12970 Filed 6-30-05; 8:45 am]

BILLING CODE 3410-11-M